DEPARTMENT OF ENERGY

Federal Energy Regulatory Commission

[Docket No. CP02-103-000]

Florida Gas Transmission Company; Notice of Abandonment Application

March 13, 2002.

On March 5, 2002, Florida Gas Transmission Company ( Florida), 1400 Smith Street, Houston, Texas 77002, filed an application in Docket No. CP02-103-000 pursuant to section 7(b) of the Natural Gas Act (NGA) for permission and approval to abandon, by sale to Crosstex Energy Services, Ltd. (Crosstex), the South of MOPS Facilities, consisting of 70.25 miles of 20-inch diameter pipeline, Florida's Compressor Station No. 2 (consisting of two units for a total of 4,000 horsepower), and various measurement facilities with appurtenances, all located in San Patricio, Refugio, and Nueces Counties Texas. The application also requests that the Commission determine that, upon abandonment and sale of such facilities, the South of MOPS Facilities will be intrastate transportation facilities under section 2(16) of the NGPA, and exempt from jurisdiction of the Commission under the NGA, all as more fully set forth in the application which is on file with the Commission and open to public inspection. Copies of this filing are on file with the Commission and are available for public inspection. This filing may be viewed on the Web at http://www.ferc.gov using the “RIMS” link, select “Docket #” from follow the instructions (call (202)208-2222 for assistance).

Any questions regarding this application should be directed to Stephen T. Veatch, Director of Certificates & Regulatory Reporting, Florida Gas Transmission Company, P.O. Box 1188, Houston, Texas 77251, at (713) 853-6549 or Frazier King, Senior Counsel at (713) 853-7228.

There are two ways to become involved in the Commission's review of this abandonment. First, any person wishing to obtain legal status by becoming a party to the proceedings for this abandonment should, on or before April 3, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying abandonment will be issued.

Linwood A. Watson, Jr.,
Deputy Secretary.

[FR Doc. 02-6559 Filed 3-18-02; 8:45 am]

BILLING CODE 6717-01-P